NATIONAL FOUNDATION ON THE ARTS AND THE HUMANITIES

Sunshine Act Meeting; Meeting of the National Museum Services Board and the National Commission on Libraries and Information Science

AGENCY: Institute of Museum and Library Services & National Commission on Libraries and Information Science.

ACTION: Notice of meeting.

SUMMARY: This notice sets forth the agenda of a forthcoming meeting of the National Museum Services Board and the National Commission on Libraries and Information Science. This notice also describes the function of the boards. Notice of this meeting is required under the Government through the Sunshine Act (Public Law 94-409) and regulations of the Institute of Museum and Library Services, 45 CFR 1180.84.

TIME/DATE: 2 pm-5 pm on Thursday, December 6, 2001.

STATUS: Open.

ADDRESSES: The Monticello and Arlington Rooms of the Madison Hotel, 15th & M Streets, NW., Washington, DC 20005, (202) 862-1600.

FOR FURTHER INFORMATION CONTACT: Elizabeth Lyons, Special Assistant to the Director, Institute of Museum and Library Services, 1100 Pennsylvania Avenue, NW., Room 510, Washington, DC 20506, (202) 606-4649.

SUPPLEMENTARY INFORMATION: The National Museum Services Board is established under the Museum Services Act, Title II of the Arts, Humanities, and Cultural Affairs Act of 1976, Public Law 94-462. The Board has responsibility for the general policies with respect to the powers, duties, and authorities vested in the Institute under the Museum Services Act.

The United States National Commission on Libraries and Information Science (NCLIS) is established under Public Law 91-345 as amended, The National Commission on Libraries and Information Science Act. In accordance with section 5(b) of the Act, the commission has the responsibility for advising the Director of the Institute of Museum and Library Services on general policies relating to library services.

The meeting on Thursday, December 6, 2001 will be open to the public. If you need special accommodations due to a disability, please contact: Institute of Museum and Library Services, 1100 Pennsylvania Avenue, NW., Washington, DC 20506—(202) 606-8536—TDD (202) 606-8636 at least seven (7) days prior to the meeting date.

Agenda

5th Annual Meeting of The National Museum Services Board and The National Commission on Libraries and Information Science in The Monticello and Arlington Rooms of The Madison Hotel, 15th & M Street, NW., Washington, DC 20005, on Thursday, December 6, 2001

2 pm-5 pm

I. The Chair's Welcome and Minutes of the 4th Annual Meeting

II. Director's Welcome and Opening Remarks

III. 21st Century Learner Conference Report

IV. Webwise 2002: Conference Preview

V. National Leadership Grants

a. Analysis: National Leadership Grants 2001

b. Panel and Field Review Process

c. Discussion: Emerging Issues and Opportunities

VI. National Award for Museum Service/National Award for Library Service

VII. Budget Update: New Opportunities

Dated: November 16, 2001.
Teresa LaHaie,
Administrative Officer, National Foundation on the Arts and Humanities, Institute of Museum and Library Services.

[FR Doc. 01-29065 Filed 11-16-01; 11:50 am]

BILLING CODE 7036-01-M